DEPARTMENT OF AGRICULTURE

Submission for OMB Review; Comment Request

February 19, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by March 27, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal Plant and Health Inspection Service

Title: Swine Health Protection.

OMB Control Number: 0579-0065.

Summary Of Collection: The Animal Health Protection Act (AHPA) of 2002 is the primary Federal law governing the protection of animal health. The law gives the Secretary of Agriculture broad authority to detect, control, or eradicate pests or diseases of livestock or poultry. The AHPA is contained in Title X, Subtitle E, Sections 10401-18 of P.O. 107-171, May 13, 2002, the Farm Security and Rural Investment Act of 2002. Veterinary Services, a program with the Animal and Plant Health Inspection Service (APHIS), is responsible for administering regulations intended to prevent the dissemination of animal diseases within the United States. Garbage is one of the primary media through which numerous infections or communicable diseases of swine are transmitted. Because of the serious threat to the U.S. swine industry, Congress passed Public Law 96-468 “Swine Health Protection Act” on October 17, 1980. This law requires USDA to ensure that all garbage is treated prior to its being fed to swine that are intended for interstate or foreign commerce or that substantially affect such commerce. The Act and the regulations will allow only operators of garbage treatment facilities, which meet certain specification to utilize garbage for swine feeding. APHIS will use various forms to collect information.

Need and Use of the Information: APHIS collects information from persons desiring to obtain a permit (license) to operate a facility to treat garbage. Prior to issuance of a license, an inspection will be made of the facility by an authorized representative to determine if it meets all requirements of the regulations. Periodic inspections will be made to determine if licenses are meeting the standards for operation of their approved facilities. Upon receipt of the information from the Animal Health Officials, the information is used by Federal or State animal health personnel to determine whether the waste collector is feeding garbage to swine, whether it is being treated, and whether the feeder is licensed or needs to be licensed.

Description of Respondents: Business or other for profit; State, Local or Tribal Government.

Number of Respondents: 2,110.

Frequency of Responses: Recordkeeping; Reporting: On occasion.

Total Burden Hours: 11,333.

Animal and Plant Health Inspection Service

Title: Importation of Live Swine, Pork, and Pork Products from Certain Regions Free of CSF in Chile, Mexico and Brazil.

OMB Control Number: 0579-0230.

Summary of Collection: The Animal Health Protection Act (AHPA) of 2002 is the primary Federal law governing the protection of animal health. The law gives the Secretary of Agriculture broad authority to detect, control, or eradicate pest or diseases of livestock or poultry. The regulations under which the Animal and Plant Health Inspection Service (APHIS) conduct disease prevention activities are contained in Title 9, Chapter 1, Subchapter D, Parts 94, place certain restrictions on the importation of swine, pork, and pork products into the United States.

Need and Use of the Information: APHIS will collect information to ensue regulatory compliance for mitigation of classical swine fever (CFS) from imports of swine, pork, and pork products into the United States. One requirement is completion of a certificate issued by a salaried veterinary officer of the Governments of Mexico, Chile and/or Brazil that must accompany swine, pork, and pork products from their respective regions. Other requirements are a compliance agreement that is required by the operators of the processing establishment located in a non-CSF free region that processes pork products from CSF free regions and a cooperative service agreement that is required by the processing establishment located in a non-CSF free region that processes pork products from CSF free regions, or a party on its behalf, must enter into a cooperative service agreement with APHIS to pay all expenses incurred by APHIS for the initial evaluation of the processing establishment and periodically thereafter. If the information was not collected APHIS would be unable to establish an effective defense against the entry and spread of CSF from Mexican, Chilean, and Brazilian swine, pork, and pork product imports. This would cause serious health consequences from U.S. swine and economic consequences for the U.S. pork industry.

Description of Respondents: Business or other for profit; Federal Government.

Number of Respondents: 11.

Frequency of Responses: Reporting: On occasion.

Total Burden Hours: 768.

Title: Importation of Clementines, Mandarins, and Tangerines from Chile.

OMB Control Number: 0579-0242.

Summary of Collection: Under the Plant Protection Act (7 U.S.C. 7701-7772), the Secretary of Agriculture is authorized to carry out operations or measures to detect, eradicate, suppress, control, prevent, or retard the spread of plant pests new to the United States or not known to be widely distributed throughout the United States. The regulations in “Subpart-Fruits and Vegetables” (7 CFR 319.56 through 319.56-58) prohibit or restrict the importation of fruits and vegetables into the United States from certain parts of the world, to prevent the introduction and dissemination of plant pests, including fruit flies that are new to or not widely distributed within the United States. The Animal and Plant Health Inspection Service (APHIS) fruits and vegetables regulations allow the importation, under certain conditions, of clementines, mandarins, and tangerines from Chile into the United States.

Need and Use of the Information: APHIS requires that some plants or plant products are accompanied by a phytosanitary inspection certificate that is completed by plant health officials in the originating or transiting country. APHIS will use the information on this certificate to determine the pest condition of the shipment at the time of inspection in the foreign country. This information is used as a guide to the intensity of the inspection that APHIS must conduct when the shipment arrives. Without the information, all shipments would need to be inspected very thoroughly, thereby requiring considerable more time, this would slow the clearance of international shipments.

Description of Respondents: Business or other for-profit; Federal Government.

Number of Respondents: 39.

Frequency of Responses: Reporting: On occasion.

Total Burden Hours: 163.

Ruth Brown,
Departmental Information Collection Clearance Officer.

[FR Doc. 2014-03943 Filed 2-24-14; 8:45 am]

BILLING CODE 3410-34-P